NUCLEAR REGULATORY COMMISSION

FirstEnergy Nuclear Operating Company

[Docket No. 50-346-CO; ASLBP No. 04-825-01-CO]

Establishment of Atomic Safety and Licensing Board

Pursuant to delegation by the Commission dated December 29, 1972, published in the Federal Register, 37 FR 28710 (1972), and the Commission's regulations, see 10 CFR 2.104, 2.300, 2.303, 2.309, 2.311, 2.318, and 2.321, notice is hereby given that an Atomic Safety and Licensing Board is being established to preside over the following proceeding:

FirstEnergy Nuclear Operating Company (Davis-Besse Nuclear Power Station, Unit 1)

The Licensing Board is being established pursuant to a March 8, 2004, notice of opportunity for hearing published in the Federal Register (69 FR 12357 (Mar. 16, 2004)), regarding an immediately effective confirmatory order modifying the 10 CFR part 50 operating license for the Davis-Besse Nuclear Power Plant, Unit 1, to address performance deficiencies relating to the March 2002 discovery of a corrosion-induced cavity in the Davis-Besse Unit 1 reactor pressure vessel. In response to that notice, on March 29, 2004, Michael Keegan, Joanne DiRando, Paul Gunter, and Donna Lueke submitted objections to the confirmatory order that are the subject of this proceeding.

The Board is comprised of the following administrative judges:

G. Paul Bollwerk, III, Chair, Atomic Safety and Licensing Board Panel, U.S. Nuclear Regulatory Commission, Washington, DC 20555-0001;

Dr. Charles N. Kelber, Atomic Safety and Licensing Board Panel, U.S. Nuclear Regulatory Commission, Washington, DC 20555-0001;

Dr. Peter S. Lam, Atomic Safety and Licensing Board Panel, U.S. Nuclear Regulatory Commission, Washington, DC 20555-0001.

All correspondence, documents, and other materials shall be filed with the administrative judges in accordance with 10 CFR 2.302.

Issued in Rockville, Maryland, this 15th day of April, 2004.
G. Paul Bollwerk, III,
Chief Administrative Judge, Atomic Safety and Licensing Board Panel.

[FR Doc. E4-913 Filed 4-22-04; 8:45 am]

BILLING CODE 7590-01-P